NATIONAL SCIENCE FOUNDATION

Agency Information Collection Activities: Comment Request;

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by January 27, 2020 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Grantee Reporting Requirements for Community Facility Support awards made by the Division of Earth Sciences Instrumentation and Facilities Program under NSF 16-609 and for Support of National or Regional Multi-User Facilities awards under NSF 15-516.

OMB Number: 3145-NEW.

Expiration Date of Approval: Not applicable.

Type of Request: Intent to seek approval to establish an information collection.

Proposed Project: Use of the Information:

The NSF Division of Earth Sciences Instrumentation and Facilities (EAR/IF) Program has long supported Community Facilities or National or Regional Multi-User Facilities (hereafter Facilities or Facility) to make complex and expensive instruments, systems of instruments or services broadly available to the Earth science research and education communities. In proposals requesting renewal of Facility support and/or in submitted Annual and Final Progress Reports, investigators have typically reported a number of performance metrics and details of facility operating budgets and expenses. A review of this information across the portfolio of currently supported EAR/IF Facilities reveals considerable variation in the reporting of performance metrics and financial information. More consistent reporting of information on support for specific research projects and related level of personnel effort, and sources of Facility income, for example, will enable NSF to more accurately assess the Facility's value to the scientific community. Performance metrics and financial reporting standards have not been specified within previous EAR/IF solicitations or via specific reporting requirements as part of Grant or Cooperative Agreement Terms and Conditions.

The intent of this data collection is to understand facility performance, services and finances in a uniform manner. This will help NSF assess whether standard reporting for performance metrics, financials and specific research project support will be required for future awardees through proposals, annual and final reports. This Information is for internal oversight use by the Division of Earth Sciences and will not be made publicly available.

Burden on the Public: Estimated at 80 hours per award for 14 awards for a total of 1,120 hours.

Dated: November 20, 2019.
Suzanne H. Plimpton,
Reports Clearance Officer, National Science Foundation.

[FR Doc. 2019-25603 Filed 11-25-19; 8:45 am]

BILLING CODE 7555-01-P